DEPARTMENT OF HEALTH AND HUMAN SERVICES

National Institutes of Health

National Center for Complementary and Alternative Medicine Announcement of Wellness Workshop

ACTION: Notice.

SUMMARY: The National Center for Complementary and Alternative Medicine (NCCAM) invites the research community to participate in a workshop focused on wellness.

The purpose of this workshop is to review several measures of wellness, identify their strengths and weaknesses, and make recommendations on how best to capture the construct. This information will help NCCAM guide development of questions for the 2012 National Health Interview Survey.

The Workshop will take place on September 25, 2009. Those interested in CAM research are particularly encouraged to attend.

Background: The National Center for Complementary and Alternative Medicine (NCCAM) was established in 1999 with the mission of exploring complementary and alternative healing practices in the context of rigorous science, training CAM researchers, and disseminating authoritative information to the public and professionals. NCCAM funds research grants that explore the science of CAM. For more information, see http://nccam.nih.gov/grants/whatnccamfunds/.

Participating: The public is invited to attend and observe this workshop. Those interested in attending are required to RSVP via e-mail to Edward Culhane Jr. at culhane@mail.nih.gov with their name, affiliation, e-mail and phone number. Space constraints limit the number of attendees at this workshop and participation will be on a first come, first served basis. For more information about what will be covered at the workshop, see http://nccam.nih.gov/news/events/.

FOR FURTHER INFORMATION CONTACT: To request more information, visit the NCCAM Web site at http://nccam.nih.gov/news/events/, call 301-594-3391 (Edward Culhane Jr.) or e-mail at culhanee@mail.nih.gov.

Dated: August 12, 2009.
Richard Nahin,
Senior Advisor for Scientific Coordination and Outreach, National Center for Complementary and Alternative Medicine, National Institutes of Health.

[FR Doc. E9-20309 Filed 8-25-09; 8:45 am]

BILLING CODE 4140-01-M